DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on December 1, 2022, through December 31, 2022. This list provides the name of the petitioner, city, and state of vaccination (if unknown then the city and state of the person or attorney filing the claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the United States Court of Federal Claims at the address listed above (under the heading “For Further Information Contact”), with a copy to HRSA addressed to Director, Division of Injury Compensation Programs, Health Systems Bureau, 5600 Fishers Lane, 08N146B, Rockville, Maryland 20857. The Court's caption (Petitioner's Name v. Secretary of HHS) and the docket number assigned to the petition should be used as the caption for the written submission. Chapter 35 of title 44, United States Code, related to paperwork reduction, does not apply to information required for purposes of carrying out the Program.

Carole Johnson,
Administrator.

List of Petitions Filed

1. Abdulaziz Alanazi, Martin, Tennessee, Court of Federal Claims No: 22-1753V

2. Justin Hargett, Baltimore, Maryland, Court of Federal Claims No: 22-1755V

3. Russell Probst, Covington, Louisiana, Court of Federal Claims No: 22-1757V

4. Karen Dodge, San Rafael, California, Court of Federal Claims No: 22-1759V

5. William Walkerm, Selmer, Tennessee, Court of Federal Claims No: 22-1762V

6. Suzanne Brogan, Cicero, New York, Court of Federal Claims No: 22-1768V

7. Rebecca Lake Pool, Orlando, Florida, Court of Federal Claims No: 22-1771V

8. Jennifer Noone, Union, New Jersey, Court of Federal Claims No: 22-1772V

9. Lorraine E. Ginz, Peoria, Illinois, Court of Federal Claims No: 22-1773V

10. Lee Apfel, La Crosse, Wisconsin, Court of Federal Claims No: 22-1774V

11. Julie McLaughlin, North Charleston, South Carolina, Court of Federal Claims No: 22-1776V

12. Kathleen Knouse, Aventura, Florida, Court of Federal Claims No: 22-1777V

13. Philip Weseman, St. Louis, Missouri, Court of Federal Claims No: 22-1780V

14. Nicole Jemison, Discovery Bay, California, Court of Federal Claims No: 22-1781V

15. Lorraine E. Ginz, Peoria, Illinois, Court of Federal Claims No: 22-1783V

16. Melissa Mello, Randolph, Massachusetts, Court of Federal Claims No: 22-1784V

17. Daniel Janosik on behalf of the Estate of Elva Janosik, Deceased, Boston, Maryland, Court of Federal Claims No: 22-1785V

18. Gwendolyn Kieft, Phoenix, Arizona, Court of Federal Claims No: 22-1787V

19. Laurence Chitlik, Cambridge, Maryland, Court of Federal Claims No: 22-1790V

20. April York on behalf of A. Y., Phoenix, Arizona, Court of Federal Claims No: 22-1796V

21. Deborah Helldoerfer, Hilliard, Ohio, Court of Federal Claims No: 22-1798V

22. Brittany Moran Ogilvie on behalf of A. O., Chicago, Illinois, Court of Federal Claims No: 22-1799V

23. Dennis A. Kopolovich, Monroeville, Pennsylvania, Court of Federal Claims No: 22-1805V

24. Mary G. Dowd, Bridgewater, Massachusetts, Court of Federal Claims No: 22-1806V

25. Daizhanea Gaines, Baltimore, Maryland, Court of Federal Claims No: 22-1808V

26. Patrick B. Highland, Raleigh, North Carolina, Court of Federal Claims No: 22-1809V

27. Theresa Grillo, Deerfield Beach, Florida, Court of Federal Claims No: 22-1810V

28. Jessica Kennedy, Westerville, Ohio, Court of Federal Claims No: 22-1812V

29. Angela Risner, Waukee, Iowa, Court of Federal Claims No: 22-1813V

30. Margaret Schellhaas, Conneaut Lake, Pennsylvania, Court of Federal Claims No: 22-1819V

31. Sheela Tailor, Raleigh, North Carolina, Court of Federal Claims No: 22-1820V

32. Jeanie Dehart-Manzo, Hood River, Oregon, Court of Federal Claims No: 22-1822V

33. Deborah Carpenter, Washington, District of Columbia, Court of Federal Claims No: 22-1823V

34. Sandra L. Abbott, Baltimore, Maryland, Court of Federal Claims No: 22-1824V

35. Kevin C. McCarthy, Denver, Colorado, Court of Federal Claims No: 22-1825V

36. Marla Kay Sommerfield, Rochester, Minnesota, Court of Federal Claims No: 22-1830V

37. Paul Braun, Jr., Pennsburg, Pennsylvania, Court of Federal Claims No: 22-1831V

38. Michelle Eubanks on behalf of K. L., Phoenix, Arizona, Court of Federal Claims No: 22-1832V

39. Elizabeth Miller, Phoenix, Arizona, Court of Federal Claims No: 22-1833V

40. Heather Nattkemper, Ashburn, Virginia, Court of Federal Claims No: 22-1838V

41. Vivian Oliver, New York, New York, Court of Federal Claims No: 22-1852V

42. Cindy O'Connor, Williamsport, Pennsylvania, Court of Federal Claims No: 22-1853V

43. Youn Hee Lee, Phoenix, Arizona, Court of Federal Claims No: 22-1855V

44. Tiffany Hudson, Phoenix, Arizona, Court of Federal Claims No: 22-1856V

45. Kelli O'Connell, Lawrenceville, Georgia, Court of Federal Claims No: 22-1859V

46. Keith Pillischafske, Champaign, Illinois, Court of Federal Claims No: 22-1860V

47. Bennett C. Meltzer, Orange, California, Court of Federal Claims No: 22-1861V

48. Alyssa Robinson, Phoenix, Arizona, Court of Federal Claims No: 22-1862V

49. Jessica Brown, Phoenix, Arizona, Court of Federal Claims No: 22-1863V

50. Stella Cook, Bryan, Texas, Court of Federal Claims No: 22-1864V

51. Rebecca Pick, Phoenix, Arizona, Court of Federal Claims No: 22-1866V

52. Kathryn Kirchner, Grand Haven, Michigan, Court of Federal Claims No: 22-1867V

53. Kaitlyn Wilson, Phoenix, Arizona, Court of Federal Claims No: 22-1876V

54. Denise Heinle on behalf of the Estate of Virgil Heinle, Deceased, St. Louis, Missouri, Court of Federal Claims No: 22-1877V

55. Dawn A. McNair, Fayetteville, North Carolina, Court of Federal Claims No: 22-1878V

56. Sean F. Rowell, II, New Lisbon, Wisconsin, Court of Federal Claims No: 22-1879V

57. Michelle Bridges, Marion, Indiana, Court of Federal Claims No: 22-1881V

58. Melissa Ballard on behalf of Estate of Kenneth Wayne Ballard, Deceased, Henderson, Nevada, Court of Federal Claims No: 22-1884V

59. George Ling, Greensboro, North Carolina, Court of Federal Claims No: 22-1886V

60. Beatriz Bowman, Arlington, Texas, Court of Federal Claims No: 22-1889V

61. Janmarie Mazzone, San Jose, California, Court of Federal Claims No: 22-1891V

62. Tiffany Brooks, Queens, New York, Court of Federal Claims No: 22-1892V

63. Rachel Magoon, Vancouver, Washington, Court of Federal Claims No: 22-1893V

64. James Stanfield, Surprise, Arizona, Court of Federal Claims No: 22-1894V

65. Stephanie Cox, Raleigh, North Carolina, Court of Federal Claims No: 22-1895V

66. James M. Helm, Aventura, Florida, Court of Federal Claims No: 22-1896V

67. Khadijah Hasan on behalf of A. S., Aventura, California, Court of Federal Claims No: 22-1897V

68. Elizabeth Cameron, Aurora, Colorado, Court of Federal Claims No: 22-1898V

69. Mitchell Foster, Boston, Massachusetts, Court of Federal Claims No: 22-1899V

70. Betty Farmer, Marshall, Michigan, Court of Federal Claims No: 22-1900V

71. Kenyondra Langford on behalf of J. S., Phoenix, Arizona, Court of Federal Claims No: 22-1901V

72. Jessica Richardson, Greenville, North Carolina, Court of Federal Claims No: 22-1902V

73. Lauralee Miller, Murray, Utah, Court of Federal Claims No: 22-1903V

74. Ciena Westrich, Phoenix, Arizona, Court of Federal Claims No: 22-1906V

75. Randy Ritchie, Savannah, Georgia, Court of Federal Claims No: 22-1907V

76. Lisa Snell on behalf of K. W., Phoenix, Arizona, Court of Federal Claims No: 22-1909V

77. Suzanne Meeley, Drexel Hill, Pennsylvania, Court of Federal Claims No: 22-1911V

78. Gonzalo Lopez and Rosalia Lopez on behalf of A. L., Phoenix, Arizona, Court of Federal Claims No: 22-1912V

79. Chelsea Hughes, Olney, Maryland, Court of Federal Claims No: 22-1917V

80. Tiffany Taylor on behalf of C. T., Stanford, Kentucky, Court of Federal Claims No: 22-1918V

81. Aidan Walsh, Boston, Massachusetts, Court of Federal Claims No: 22-1919V

82. Aubrielle Smythe, Huntsville, Alabama, Court of Federal Claims No: 22-1920V

83. Sakinah Wood, Atlanta, Georgia, Court of Federal Claims No: 22-1924V

84. Alexander Kurk, St. Petersburg, Florida, Court of Federal Claims No: 22-1930V

85. Joseph Pilcher, Los Angeles, California, Court of Federal Claims No: 22-1931V

86. John D. Sherwood, Lexington, Ohio, Court of Federal Claims No: 22-1934V

87. Lorraine Martin, Port Orange, Florida, Court of Federal Claims No: 22-1936V

88. Lorraine Martin, Port Orange, Florida, Court of Federal Claims No: 22-1937V

89. Anwesa Paul, Westfield, New Jersey, Court of Federal Claims No: 22-1938V

90. Danielle Spiller, Manalapan, New Jersey, Court of Federal Claims No: 22-1939V

91. Elizabeth Cimino, Phoenix, Arizona, Court of Federal Claims No: 22-1940V

92. Prisca Thomas, Beverly Hills, California, Court of Federal Claims No: 22-1941V

[FR Doc. 2023-03184 Filed 2-14-23; 8:45 am]

BILLING CODE 4165-15-P